DEPARTMENT OF LABOR

Employment and Training Administration

[TA-W-62,517]

Berkline/Benchcraft, LLC Including On-Site Workers of Blue Mountain Trucking Blue Mountain, MS; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 25, 2008, applicable to workers of Berkline/BenchCraft, LLC, Blue Mountain, Mississippi. The notice was published in the Federal Register on February 7, 2008 (73 FR 7319).

At the request of the State agency, the Department reviewed the certification for workers of the subject firm. The workers are engaged in the production of upholstered furniture (stationary and motion).

New information shows that worker separations occurred involving employees of Blue Mountain Trucking, Blue Mountain, Mississippi employed on-site at the Blue Mountain, Mississippi location of Berkline/BenchCraft, LLC.

The Blue Mountain Trucking employees provide trucking support services for the Mississippi and Tennessee production plants of the subject firm.

Based on these findings, the Department is amending this certification to include all workers of Blue Mountain Trucking, working on-site at the Blue Mountain, Mississippi location of the subject firm.

The intent of the Department's certification is to include all workers employed at Berkline/BenCraft, LLC, Blue Mountain, Mississippi who were adversely-impacted by increased company imports of upholstered furniture.

The amended notice applicable to TA-W-62,517 is hereby issued as follows:

All workers of Berkline/BenchCraft, LLC, including on-site workers from Blue Mountain Trucking, Blue Mountain, Mississippi, who became totally or partially separated from employment on or after November 29, 2006, through January 25, 2010, are eligible to apply for adjustment assistance under Section 223 of the Trade Act of 1974, and are also eligible to apply for alternative trade adjustment assistance under Section 246 of the Trade Act of 1974.

Signed at Washington, DC this 29th day of February 2008.
Elliott S. Kushner,
Certifying Officer, Division of Trade Adjustment Assistance.

[FR Doc. E8-4441 Filed 3-6-08; 8:45 am]

BILLING CODE 4510-FN-P